DEPARTMENT OF LABOR

Mine Safety and Health Administration

30 CFR Parts 56 and 57

[Docket No. MSHA-2019-0007]

RIN 1219-AB88

Electronic Detonators

AGENCY: Mine Safety and Health Administration, Labor.

ACTION: Direct final rule; confirmation of effective date.

SUMMARY: The Mine Safety and Health Administration (MSHA) confirms the effective date for the direct final rule, Electronic Detonators, which was published on January 14, 2020, to revise certain safety standards for explosives at metal and nonmetal mines.

DATES: The effective date of the final rule published in the Federal Register of January 14, 2020 (85 FR 2022) is confirmed: March 16, 2020.

ADDRESSES:

Federal Register Publications: Access rulemaking documents electronically at https://www.msha.gov/regulations/rulemaking or http://www.regulations.gov [Docket Number: MSHA-2019-0007].

Email Notification: To subscribe to receive email notification when MSHA publishes rulemaking documents in the Federal Register, go to https://www.msha.gov/subscriptions.

FOR FURTHER INFORMATION CONTACT: Sheila A. McConnell, Director, Office of Standards, Regulations, and Variances, MSHA, at mcconnell.sheila.a@dol.gov (email), 202-693-9440 (voice), or 202-693-9441 (fax). These are not toll-free numbers.

SUPPLEMENTARY INFORMATION:

Effective Date

On January 14, 2020, MSHA published in the Federal Register a direct final rule to revise certain safety standards for explosives at metal and nonmetal mines (85 FR 2022). In the same issue of the Federal Register, MSHA published a companion proposed rule (85 FR 2064) for notice and comment rulemaking to provide a procedural framework to finalize the rule in the event that the Agency received significant adverse comments and had to withdraw the direct final rule. After reviewing all the comments received during the public comment period, MSHA has determined that these comments are not adverse to the direct final rule. Therefore, the direct final rule took effect on March 16, 2020.

Authority: 30 U.S.C. 811

David G. Zatezalo,
Assistant Secretary of Labor for Mine Safety and Health Administration.

[FR Doc. 2020-06649 Filed 4-6-20; 8:45 am]

BILLING CODE 4520-43-P